DEPARTMENT OF DEFENSE

Office of the Secretary

Termination of the Secretary of the Navy Advisory Panel

AGENCY: Department of Defense.

ACTION: Termination of Federal Advisory Committee.

SUMMARY: The Department of Defense is publishing this notice to announce it is terminating the Secretary of the Navy Advisory Panel (“the Panel”) along with its permanent subcommittee, the Naval Research Advisory Committee, on April 1, 2019.

FOR FURTHER INFORMATION CONTACT: Jim Freeman, Advisory Committee Management Officer for the Department of Defense, 703-692-5952.

SUPPLEMENTARY INFORMATION: The Panel is being terminated under the provisions of the Federal Advisory Committee Act (FACA) of 1972 (5 U.S.C., Appendix) and 41 CFR 102-3.55, and the Government in the Sunshine Act of 1976 (5 U.S.C. 552b), effective April 1, 2019.

Dated: March 25, 2019.
Aaron T. Siegel,
Alternate OSD Federal Register Liaison Officer, Department of Defense.

[FR Doc. 2019-06049 Filed 3-28-19; 8:45 am]

BILLING CODE 5001-06-P